DEPARTMENT OF TRANSPORTATION

Federal Aviation Administration

14 CFR Part 71

[Airspace Docket No. 00-ASO-36]

Amendment of Class D Airspace; Kissimmee, FL

AGENCY: Federal Aviation Administration (FAA), DOT.

ACTION: Final rule.

SUMMARY: This action amends Class D airspace at Kissimmee, FL. Orlando Approach Control is the controlling air traffic control (ATC) facility for Instrument Flight Rules (IFR) operations at Kissimmee Municipal Airport, Kissimmee, FL. Due to the proximity of the Kissimmee Municipal Airport to the Orlando International Airport and the Orlando Class B airspace area, Orlando Approach Control has requested the Kissimmee Class D airspace be lowered from 2,500 feet MSL to 1,500 feet MSL.

EFFECTIVE DATE: 0901 UTC, January 25, 2001.

FOR FURTHER INFORMATION CONTACT: Nancy B. Shelton, Manager, Airspace Branch, Air Traffic Division, Federal Aviation Administration, P.O. Box 20636, Atlanta, GA 30320; telephone (404) 305-5586.

SUPPLEMENTARY INFORMATION:

History

On September 25, 2000, the FAA proposed to amend Part 71 of the Federal Aviation regulations (14 CFR part 71) by amending Class D airspace at Kissimmee, FL (65 FR 57567), at the request of Orlando Approach Control, the controlling ATC facility for IFR operations at Kissimmee Municipal Airport. Designations for Class D airspace are published in FAA Order 7400.9H, dated September 1, 2000, and effective September 16, 2000, which is incorporated by reference in 14 CFR 71.11. The Class D designation listed in this document will be published subsequently in the order.

The Rule

This amendment to Part 71 of the Federal Aviation Regulations (14 CFR part 71) amends Class D airspace Kissimmee, FL.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120, EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows: Paragraph 5000 Class D Airspace.

* * * * *

ASO FL D Kissimmee, FL [Revised]

Kissimmee Municipal Airport, FL

(Lat. 28°17′23″ N, long 81°26′14″ W)

That airspace extending upward from the surface to but not including 1,600 feet MSL within a 4-mile radius of Kissimmee Municipal Airport, excluding that portion within the Orlando International Airport, FL, Class B airspace area. This Class D airspace area is effective during the specific dates and times established in advance by a Notice to Airmen. The effective date and time will thereafter be continuously published in the Airport/Facility Directory.

* * * * *

Issued in College Park, Georgia, on November 1, 2000.
Wade T. Carpenter,
Acting Manager, Air Traffic Division Southern Region.

[FR Doc. 00-28990 Filed 11-9-00; 8:45 am]

BILLING CODE 4910-13-M